ENVIRONMENTAL PROTECTION AGENCY

[EPA-HQ-OAR-2019-0027; FRL-9989-96-OAR]

Proposed Information Collection Request; Comment Request; Information Collection Request for the Greenhouse Gas Reporting Program

AGENCY: Environmental Protection Agency.

ACTION: Notice.

SUMMARY: The Environmental Protection Agency is planning to submit an Information Collection Request (ICR), “Information Collection Request for the Greenhouse Gas Reporting Program” (EPA ICR No. 2300.18, OMB Control No. 2060-0629) to the Office of Management and Budget (OMB) for review and approval in accordance with the Paperwork Reduction Act. Before doing so, EPA is soliciting public comments on specific aspects of the proposed information collection request as described below. This is a proposed extension of the ICR, which is currently approved through September 30, 2019. An Agency may not conduct or sponsor and a person is not required to respond to a collection of information unless it displays a currently valid OMB control number.

DATES: Comments must be received on or before April 29, 2019.

ADDRESSES: Submit your comments, referencing Docket ID No. EPA-HQ-OAR-2019-0027, online using www.regulations.gov (our preferred method), by email to A-and-R-Docket@epa.gov; or by mail to EPA Docket Center, Environmental Protection Agency, Mail Code 28221T, 1200 Pennsylvania Ave. NW, Washington, DC 20460.

EPA's policy is that all comments received will be included in the public docket without change including any personal information provided, unless the comment includes profanity, threats, information claimed to the Confidential Business Information (CBI) or other information whose disclosure is restricted by statute.

FOR FURTHER INFORMATION CONTACT: Rachel Schmeltz, Climate Change Division, Office of Atmospheric Programs (MC-6207A), Environmental Protection Agency, 1200 Pennsylvania Ave. NW, Washington, DC 20460; telephone number: (202) 343-9124; fax number: (202) 343-2342; email address: GHGReporting@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In response to the FY2008 Consolidated Appropriations Act (H.R. 2764; Pub. L. 110-161) and under authority of the Clean Air Act, the EPA finalized the Mandatory Reporting of Greenhouse Gases Rule (GHG Reporting Rule) (74 FR 56260; October 30, 2009). The GHG Reporting Rule, which became effective on December 29, 2009, establishes reporting requirements for certain large facilities and suppliers. It does not require control of greenhouse gases. Instead, it requires that sources emitting GHGs above certain threshold levels of carbon dioxide equivalent (CO2e) monitor and report emissions.

Subsequent rules have promulgated requirements for additional facilities, suppliers, and mobile sources; provided clarification and corrections to existing requirements; finalized confidentiality business information (CBI) determinations, amended recordkeeping requirements, and implemented an alternative verification approach. Collectively, the GHG Reporting Rule and its associated rulemakings are referred to as the Greenhouse Gas Reporting Program (GHGRP).

The purpose for this ICR is to renew and revise the GHG Reporting Rule ICR to update the burdens and costs.

Form Numbers: None.

Respondents/affected entities: Entities potentially affected by this action are suppliers of certain products that will emit GHG when released, combusted, or oxidized; facilities in certain industrial categories that emit greenhouse gases; and facilities that emit 25,000 metric tons or more of carbon dioxide equivalent (CO2e) per year.

Respondent's obligation to respond: Mandatory (Section 114 of the Clean Air Act provides EPA authority to require the information mandated by the Greenhouse Gas Reporting Program because such data will inform and are relevant to future policy decisions).

Estimated number of respondents: 13,654 (total).

Frequency of response: Annual.

Total estimated burden: 726,577 hours (per year). Burden is defined at 5 CFR 1320.03(b).

Total estimated cost: $86,958,000 (per year), includes $28,802,000 annualized capital or operation and maintenance costs.

Changes in Estimates: There is a decrease of 12,608 hours in total estimated respondent burden compared with the ICR currently approved by OMB. The decrease reflects an adjustment in the number of respondents from the previous ICR, an adjustment of labor rates and capital costs to reflect 2017 dollars, and a complete re-evaluation of the activities and costs associated with all subparts of the GHGRP. This decrease also reflects the removal of burden hours from collection of GHG-related data for mobile sources, which are now captured in other EPA ICR vehicles including OMB Control Nos. 2060-0287, 2060-0292, 2060-0338, 2060-0641, 2060-0680, and 2060-0710.

Dated: February 14, 2019.
Paul M. Gunning,
Director, Climate Change Division, Office of Air and Radiation.

[FR Doc. 2019-03292 Filed 2-25-19; 8:45 am]

BILLING CODE 6560-50-P